DEPARTMENT OF ENERGY

Federal Energy Regulatory Commission

Combined Notice of Filings #1

Take notice that the Commission received the following electric rate filings:

Docket Numbers: ER10-2434-007; ER10-2436 007; ER10-2467 007; ER17-1666-003.

Applicants: Fenton Power Partners I, LLC, Hoosier Wind Project, LLC, Red Pine Wind Project, LLC, Wapsipinicon Wind Project, LLC.

Description: Second Supplement to June 27, 2018 Triennial Market Power Update for the Central Region of the EDFR Sellers.

Filed Date: 10/31/18.

Accession Number: 20181031-5296.

Comments Due: 5 p.m. ET 11/21/18.

Docket Numbers: ER10-3285-002; ER10-3181-003; ER17-177-001.

Applicants: UGI Utilities Inc., UGI Development Company, UGI Energy Services, LLC.

Description: Notice of Non-Material Change in Status of the UGI MBR Companies.

Filed Date: 10/31/18.

Accession Number: 20181031-5324.

Comments Due: 5 p.m. ET 11/21/18.

Docket Numbers: ER16-1833-004.

Applicants: Sempra Gas & Power Marketing, LLC.

Description: Compliance filing: Sempra Gas & Power Marketing, LLC Compliance Filing to be effective 11/1/2018.

Filed Date: 11/1/18.

Accession Number: 20181101-5164.

Comments Due: 5 p.m. ET 11/23/18.

Docket Numbers: ER16-2516-001.

Applicants: Arizona Public Service Company.

Description: Compliance filing: Rate Schedule No. 284—Delaney Interconnection Agreement to be effective 10/31/2016.

Filed Date: 11/1/18.

Accession Number: 20181101-5098.

Comments Due: 5 p.m. ET 11/23/18.

Docket Numbers: ER19-240-000.

Applicants: Southern California Edison Company.

Description: § 205(d) Rate Filing: Letter Agreement Southern California Renewable Partners, LLC—Vision Wind to be effective 10/17/2018.

Filed Date: 10/31/18.

Accession Number: 20181031-5236.

Comments Due: 5 p.m. ET 11/21/18.

Docket Numbers: ER19-241-000.

Applicants: Pacific Gas and Electric Company.

Description: § 205(d) Rate Filing: Q3 2018 Quarterly Filing of City and County of San Francisco's WDT SA (SA 275) to be effective 9/30/2018.

Filed Date: 10/31/18.

Accession Number: 20181031-5238.

Comments Due: 5 p.m. ET 11/21/18.

Docket Numbers: ER19-243-000.

Applicants: Southwest Power Pool, Inc.

Description: § 205(d) Rate Filing: 3498 Kennett Board of Public Works NITSA NOA to be effective 10/1/2018.

Filed Date: 10/31/18.

Accession Number: 20181031-5246.

Comments Due: 5 p.m. ET 11/21/18.

Docket Numbers: ER19-244-000.

Applicants: PJM Interconnection, L.L.C.

Description: § 205(d) Rate Filing: Revisions to the Tariff, OA and RAA RE: Seasonal DR Registration Aggregation to be effective 1/1/2019.

Filed Date: 10/31/18.

Accession Number: 20181031-5261.

Comments Due: 5 p.m. ET 11/21/18.

Docket Numbers: ER19-245-000.

Applicants: Southwest Power Pool, Inc.

Description: § 205(d) Rate Filing: 3500 Paragould Light Water and Cable to be effective 10/1/2018.

Filed Date: 10/31/18.

Accession Number: 20181031-5263.

Comments Due: 5 p.m. ET 11/21/18.

Docket Numbers: ER19-246-000.

Applicants: Llano Estacado Wind, LLC.

Description: § 205(d) Rate Filing: LEW MBR Tariff Update Change in Status 2018.10.31 to be effective 11/1/2018.

Filed Date: 10/31/18.

Accession Number: 20181031-5289.

Comments Due: 5 p.m. ET 11/21/18.

Docket Numbers: ER19-248-000.

Applicants: PJM Interconnection, L.L.C.

Description: § 205(d) Rate Filing: Amendment to WMPA SA No. 4918; Queue No. AC2-072 to be effective 1/30/2018.

Filed Date: 11/1/18.

Accession Number: 20181101-5065.

Comments Due: 5 p.m. ET 11/23/18.

Docket Numbers: ER19-249-000.

Applicants: Midcontinent Independent System Operator, Inc.

Description: § 205(d) Rate Filing: 2018-11-01_Attachment O Revisions for ADIT and AFDUC to be effective 1/1/2019.

Filed Date: 11/1/18.

Accession Number: 20181101-5074.

Comments Due: 5 p.m. ET 11/23/18.

Docket Numbers: ER19-250-000.

Applicants: PJM Interconnection, L.L.C.

Description: § 205(d) Rate Filing: Amendment to WMPA SA No. 4919; Queue No. AC2-073 to be effective 1/30/2018.

Filed Date: 11/1/18.

Accession Number: 20181101-5082.

Comments Due: 5 p.m. ET 11/23/18.

Docket Numbers: ER19-251-000.

Applicants: ISO New England Inc., New England Power Pool Participants Committee.

Description: § 205(d) Rate Filing: ISO New England and New England Power Pool; Update to Schedule 16 of the OATT to be effective 1/1/2019.

Filed Date: 11/1/18.

Accession Number: 20181101-5091.

Comments Due: 5 p.m. ET 11/23/18/

Docket Numbers: ER19-252-000.

Applicants: Florida Power & Light Company.

Description: § 205(d) Rate Filing: FPL and Seminole Revised & Restated NITSA No. 162 to be effective 1/1/2019.

Filed Date: 11/1/18.

Accession Number: 20181101-5097.

Comments Due: 5 p.m. ET 11/23/18.

Docket Numbers: ER19-253-000.

Applicants: Niagara Mohawk Power Corporation, New York Independent System Operator, Inc.

Description: § 205(d) Rate Filing: 205: Agreement No. 2437—CRA between NMPC and MAIT to be effective 10/2/2018.

Filed Date: 11/1/18.

Accession Number: 20181101-5104.

Comments Due: 5 p.m. ET 11/23/18.

Docket Numbers: ER19-254-000.

Applicants: Grant County Interconnect, LLC.

Description: Initial rate filing: Filing of Coordination Services Agreement for Grant Plains Wind to be effective 11/2/2018.

Filed Date: 11/1/18.

Accession Number: 20181101-5108.

Comments Due: 5 p.m. ET 11/23/18.

Docket Numbers: ER19-255-000.

Applicants: PJM Interconnection, L.L.C.

Description: § 205(d) Rate Filing: Amendment to WMPA SA No. 5094; Queue No. AD1-048 to be effective 5/14/2018.

Filed Date: 11/1/18.

Accession Number: 20181101-5113.

Comments Due: 5 p.m. ET 11/23/18.

Docket Numbers: ER19-257-000.

Applicants: Interstate Power and Light Company.

Description: § 205(d) Rate Filing: Interstate Power and Light Company Wholesale Formula Rate Application to be effective 12/31/2018.

Filed Date: 11/1/18.

Accession Number: 20181101-5118.

Comments Due: 5 p.m. ET 11/23/18.

Docket Numbers: ER19-258-000.

Applicants: Southwest Power Pool, Inc.

Description: § 205(d) Rate Filing: Revisions to Update References to Interregional Agreements to be effective 1/1/2019.

Filed Date: 11/1/18.

Accession Number: 20181101-5120.

Comments Due: 5 p.m. ET 11/23/18.

Docket Numbers: ER19-259-000.

Applicants: Northern States Power Company, a Minnesota corporation.

Description: § 205(d) Rate Filing: 2018-11-01 MKPC Maple Riv Fac Const-648-0.0.0-Filing to be effective 1/1/2019.

Filed Date: 11/1/18.

Accession Number: 20181101-5125.

Comments Due: 5 p.m. ET 11/23/18.

Docket Numbers: ER19-260-000.

Applicants: Duke Energy Florida, LLC.

Description: § 205(d) Rate Filing: DEF Revisions to Joint OATT Schedule 2 to be effective 1/1/2019.

Filed Date: 11/1/18.

Accession Number: 20181101-5129.

Comments Due: 5 p.m. ET 11/23/18.

Docket Numbers: ER19-261-000.

Applicants: Southwest Power Pool, Inc.

Description: § 205(d) Rate Filing: Revisions to Modify Market Participation Provisions for Jointly Owned Units to be effective 7/1/2019.

Filed Date: 11/1/18.

Accession Number: 20181101-5143.

Comments Due: 5 p.m. ET 11/23/18.

Docket Numbers: ER19-262-000.

Applicants: NorthWestern Corporation.

Description: § 205(d) Rate Filing: SA 767 6th Rev—NITSA with Basin Electric Power Cooperative, Inc. to be effective 1/1/2019.

Filed Date: 11/1/18.

Accession Number: 20181101-5149.

Comments Due: 5 p.m. ET 11/23/18.

Take notice that the Commission received the following public utility holding company filings:

Docket Numbers: PH19-2-000.

Applicants: UGI Corporation.

Description: UGI Corporation submits FERC 65-B Notice of Change in Facts of Waiver Notification.

Filed Date: 10/31/18.

Accession Number: 20181031-5301.

Comments Due: 5 p.m. ET 11/21/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 1, 2018.
Kimberly D. Bose,
Secretary.

[FR Doc. 2018-24328 Filed 11-6-18; 8:45 am]

BILLING CODE 6717-01-P